DEPARTMENT OF ENERGY

Federal Energy Regulatory Commission

Combined Notice of Filings #3

Take notice that the Commission received the following electric corporate filings:

Docket Numbers: EC25-124-000.

Applicants: Trans Bay Cable LLC.

Description: Application for Authorization Under Section 203 of the Federal Power Act of Trans Bay Cable LLC.

Filed Date: 8/5/25.

Accession Number: 20250805-5238.

Comment Date: 5 p.m. ET 8/26/25.

Take notice that the Commission received the following exempt wholesale generator filings:

Docket Numbers: EG25-428-000.

Applicants: Milford Solar Phase II, LLC.

Description: Milford Solar Phase II, LLC submits Notice of Self-Certification of Exempt Wholesale Generator Status.

Filed Date: 8/6/25.

Accession Number: 20250806-5138.

Comment Date: 5 p.m. ET 8/27/25.

Take notice that the Commission received the following electric rate filings:

Docket Numbers: ER10-1290-014.

Applicants: San Diego Gas & Electric Company.

Description: Notice of Change in Status of San Diego Gas & Electric Company.

Filed Date: 7/31/25.

Accession Number: 20250731-5280.

Comment Date: 5 p.m. ET 8/21/25.

Docket Numbers: ER10-2398-015; ER10-2399-015; ER10-2409-015; ER10-2410-015; ER10-2411-016; ER10-2412-016; ER10-2414-023; ER11-1891-001; ER11-2935-017; ER13-1816-027; ER14-1933-015; ER16-1724-013; ER17-1315-013; ER17-2087-011; ER18-1189-010; ER19-1281-009; ER19-1282-008; ER20-2714-006; ER20-2746-007; ER22-2115-007; ER22-2116-007; ER23-1585-003.

Applicants: Riverstart Solar Park III LLC, Blue Harvest Solar Park LLC, Timber Road Solar Park LLC, Riverstart Solar Park LLC, Headwaters Wind Farm II LLC, Paulding Wind Farm IV LLC, Lexington Chenoa Wind Farm LLC, Meadow Lake Wind Farm VI LLC, Hog Creek Wind Project, LLC, Meadow Lake Wind Farm V LLC, Paulding Wind Farm III LLC, Headwaters Wind Farm LLC, Sustaining Power Solutions LLC, Paulding Wind Farm II LLC, Safe Harbor Water Power Corporation, Old Trail Wind Farm, LLC, Meadow Lake Wind Farm IV LLC, Meadow Lake Wind Farm III LLC, Meadow Lake Wind Farm II LLC, Meadow Lake Wind Farm LLC, Blackstone Wind Farm II LLC, Blackstone Wind Farm, LLC.

Description: Notice of Change in Status of Blackstone Wind Farm, LLC, et al.

Filed Date: 7/31/25.

Accession Number: 20250731-5306.

Comment Date: 5 p.m. ET 8/21/25.

Docket Numbers: ER10-2791-020; ER10-2876-020; ER14-1619-005; ER10-2792-020; ER16-29-003; ER18-234-003; ER18-236-003; ER18-237-003; ER18-238-003; ER18-239-003; ER24-1318-001.

Applicants: Pelican Power LLC, GSP Lost Nation LLC, GSP Schiller LLC, GSP White Lake LLC, GSP Merrimack LLC, GSP Newington LLC, Greenidge Generation LLC, Big Cajun I Peaking Power LLC, Cottonwood Energy Company LP, Louisiana Generating LLC, Bayou Cove Peaking Power, LLC.

Description: Notice of Non-Material Change in Status of Bayou Cove Peaking Power, LLC, et al.

Filed Date: 7/31/25.

Accession Number: 20250731-5307.

Comment Date: 5 p.m. ET 8/21/25.

Docket Numbers: ER15-1418-026; ER10-1852-118; ER10-1890-032; ER10-1951-091; ER10-1962-032; ER19-1076-017; ER11-2160-032; ER19-1073-016; ER11-4462-114; ER11-4677-033; ER11-4678-032; ER12-199-024; ER12-631-033; ER12-2444-031; ER13-1991-038; ER13-1992-038; ER13-2112-027; ER15-1016-025; ER15-1375-026; ER15-1883-026; ER15-2243-023; ER15-2477-025; ER16-90-025; ER16-91-025; ER16-632-025; ER16-2443-022; ER17-582-024; ER17-583-024; ER17-838-088; ER17-2340-022; ER20-819-019; ER20-820-018; ER20-2695-017; ER21-1580-014; ER21-2294-015; ER21-2304-014; ER22-415-013; ER22-1370-013; ER22-2824-012; ER23-147-009; ER23-148-009; ER23-1208-007; ER23-1541-007; ER23-1542-007; ER23-1543-007; ER24-34-008; ER24-136-009; ER24-359-007; ER24-818-006; ER24-827-006; ER25-109-004; ER25-1232-004; ER16-1509-005.

Applicants: New Wave Energy Corp, Kola Energy Storage, LLC, Silver State South Storage, LLC, Grace Orchard Energy Center, LLC, Yellow Pine Solar II, LLC, Crow Creek Solar, LLC, Sunlight Storage II, LLC, Proxima Solar, LLC, Desert Peak Energy Storage II, LLC, Desert Peak Energy Storage I, LLC, Desert Peak Energy Center, LLC, North Central Valley Energy Storage, LLC, Resurgence Solar II, LLC, Resurgence Solar I, LLC, Yellow Pine Solar, LLC, Sunlight Storage, LLC, Arlington Energy Center III, LLC, Arlington Solar, LLC, Arlington Energy Center II, LLC, Sky River Wind, LLC, Mohave County Wind Farm LLC, Blythe Solar IV, LLC, Blythe Solar III, LLC, Golden Hills North Wind, LLC, NextEra Energy Marketing, LLC, Whitney Point Solar, LLC, Westside Solar, LLC, NextEra Blythe Solar Energy Center, LLC, Blythe Solar II, LLC, Blythe Solar 110, LLC, Golden Hills Interconnection, LLC, Golden Hills Wind, LLC, Silver State Solar Power South, LLC, Adelanto Solar, LLC, McCoy Solar, LLC, Shafter Solar, LLC, Genesis Solar, LLC, Desert Sunlight 300, LLC, Desert Sunlight 250, LLC, North Sky River Energy, LLC, Windpower Partners 1993, LLC, Coram California Development, L.P., Vasco Winds, LLC, NextEra Energy Montezuma II Wind, LLC,NEPM II, LLC, Alta Wind VIII, LLC,FPL Energy Montezuma Wind, LLC, Windstar Energy, LLC, High Winds, LLC, NextEra Energy Services Massachusetts, LLC,FPL Energy Green Power Wind, LLC, Florida Power & Light Company, Adelanto Solar II, LLC.

Description: Notice of Change in Status of Adelanto Solar II, LLC, et al.

Filed Date: 7/31/25.

Accession Number: 20250731-5305.

Comment Date: 5 p.m. ET 8/21/25.

Docket Numbers: ER16-1999-004; ER11-4625-010; ER14-608-008; ER16-1644-008; ER16-1998-004; ER16-2000-004; ER16-2001-004; ER16-2002-004; ER16-2003-004; ER16-2006-004; ER19-537-007; ER24-1653-002; ER24-2557-003; ER24-2558-002; ER24-2559-003; ER25-1756-001.

Applicants: Hermes BESS LLC, Malaga BESS LLC, Hanford BESS LLC, Henrietta BESS LLC, MRP Pacifica Marketing LLC, MRP San Joaquin Energy, LLC, CalPeak Power—Vaca Dixon LLC, CalPeak Power—Panoche LLC, Midway Peaking, LLC, Malaga Power, LLC, CalPeak Power—Enterprise LLC, CalPeak Power—Border LLC, MRP Generation Holdings, LLC, High Desert Power Project, LLC, Colton Power L.P., CalPeak Power LLC.

Description: Updated Market Triennial Market Power Analysis for Southwest Region of CalPeak Power LLC, et al.

Filed Date: 7/31/25.

Accession Number: 20250731-5303.

Comment Date: 5 p.m. ET 9/29/25.

Docket Numbers: ER19-1280-009; ER10-2405-018; ER10-2407-013; ER10-2424-013; ER10-2425-015; ER13-1816-026; ER17-1316-011; ER18-1186-010; ER23-1582-005; ER23-1583-003; ER23-1584-004; ER24-560-002; ER24-563-002; ER24-1737-003; ER24-1738-003; ER24-1739-002.

Applicants: Wolf Run Solar LLC, Ragsdale Solar, LLC, Hickory Solar LLC, Crooked Lake Solar II LLC, Carpenter Wind Farm LLC, Pearl River Solar Park LLC, Indiana Crossroads Wind Farm II LLC, Crooked Lake Solar, LLC, Turtle Creek Wind Farm LLC, Quilt Block Wind Farm LLC, Sustaining Power Solutions LLC, Pioneer Prairie Wind Farm I, LLC, Rail Splitter Wind Farm, LLC, Lost Lakes Wind Farm LLC, High Prairie Wind Farm II, LLC, Broadlands Wind Farm LLC.

Description: Notice of Change in Status of Broadlands Wind Farm LLC, et al.

Filed Date: 7/31/25.

Accession Number: 20250731-5304.

Comment Date: 5 p.m. ET 8/21/25.

Docket Numbers: ER25-2246-000.

Applicants: Camchino Leasing, LLC.

Description: Second Supplement to 05/16/2025, Camchino Leasing, LLC tariff filing.

Filed Date: 7/30/25.

Accession Number: 20250730-5223.

Comment Date: 5 p.m. ET 8/11/25.

Docket Numbers: ER25-2843-000.

Applicants: Alpaugh BESS, LLC.

Description: Supplement to 07/11/2025, Alpaugh BESS, LLC tariff filing.

Filed Date: 7/31/25.

Accession Number: 20250731-5302.

Comment Date: 5 p.m. ET 8/21/25.

Docket Numbers: ER25-2856-000.

Applicants: Casey Fork Solar, LLC.

Description: Supplement to 07/15/2025, Casey Fork Solar, LLC tariff filing.

Filed Date: 7/31/25.

Accession Number: 20250731-5295.

Comment Date: 5 p.m. ET 8/21/25.

Docket Numbers: ER25-3100-000.

Applicants: Nova Bright Energy LLC.

Description: Initial Rate Filing: Application for Market-Based Rate Authority with Expedited Treatment to be effective 8/7/2025.

Filed Date: 8/6/25.

Accession Number: 20250806-5102.

Comment Date: 5 p.m. ET 8/27/25.

Docket Numbers: ER25-3101-000.

Applicants: Southwest Power Pool, Inc.

Description: § 205(d) Rate Filing: Attachment V Clean-Up Filing to be effective 6/26/2025.

Filed Date: 8/6/25.

Accession Number: 20250806-5116.

Comment Date: 5 p.m. ET 8/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 6, 2025.
Debbie-Anne A. Reese,
Secretary.

[FR Doc. 2025-15219 Filed 8-8-25; 8:45 am]

BILLING CODE 6717-01-P